DEPARTMENT OF COMMERCE

Foreign-Trade Zones Board

[B-80-2016]

Foreign-Trade Zone (FTZ) 148—Knoxville, Tennessee; Authorization of Production Activity; CoLinx, LLC (Bearing Units); Crossville, Tennessee

On November 17, 2016, CoLinx, LLC submitted a notification of proposed production activity to the Foreign-Trade Zones (FTZ) Board for its facilities within FTZ 148—Sites 2, 6, 8 and 9, in Crossville, Tennessee.

The notification was processed in accordance with the regulations of the FTZ Board (15 CFR part 400), including notice in the Federal Register inviting public comment (81 FR 85206, November 25, 2016). The FTZ Board has determined that no further review of the activity is warranted at this time. The production activity described in the notification is authorized, subject to the FTZ Act and the FTZ Board's regulations, including Section 400.14.

Dated: March 20, 2017.
Andrew McGilvray,
Executive Secretary.

[FR Doc. 2017-05807 Filed 3-22-17; 8:45 am]

BILLING CODE 3510-DS-P